DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Registration for Behavioral Health Web Site and Resources—NEW

SAMHSA is authorized under section 501(d)(16) of the Public Health Service Act (42 U.S.C. 290aa(d)(16)) to develop and distribute materials for the prevention, treatment, and recovery from substance abuse and mental health disorders. To improve the way the public locates and obtains these materials, SAMHSA is integrating the National Clearinghouse for Alcohol and Drug Information (NCADI) and the National Mental Health Information Center (NMHIC) into one online resource for behavioral health information. A part of building this new product Web site is SAMHSA's development of a voluntary registration process that will allow customers to create accounts that will save their order histories and shipping addresses. During the Web site registration process, SAMHSA will also ask customers for optional demographic information that will include organization affiliation, SAMHSA grantee identification information, and reasons for interest in behavioral health information. SAMHSA will use this information to conduct customer analyses that will inform materials development, assist in forecasting inventory needs, and identify ways that SAMHSA can improve its customer service. SAMHSA will request the same optional demographic information and state of residency when customers subscribe to its email update service, for the purpose of assessing information needs and better targeting email messages to appropriate audiences.

SAMHSA is employing a Web-based form for information collection to avoid duplication and unnecessary burden on customers who register both for an account on the product Web site and for e-mail updates. The Web technology allows SAMHSA to integrate the email update subscription process into the Web site account registration process. Customers who register for an account on the new product Web site will be given the option of being enrolled automatically to receive SAMHSA email updates. Any optional questions answered by the customer during the Web site registration process will automatically be mapped to the profile generated for the e-mail update system, thereby reducing the collection of duplicate information.

SAMHSA will collect all customer information submitted for Web site registration and email update subscriptions electronically via a series of Web forms on the samhsa.gov domain. Customers can submit the Web forms at their leisure, or call SAMHSA's toll-free Call Center and an information specialist will submit the forms on their behalf. The electronic collection of information will reduce the burden on the respondent and streamline the data-capturing process. SAMHSA will place Web site registration information into a Knowledge Management database and will place email subscription information into a database maintained by a third-party vendor that serves multiple Federal agencies and the White House. Customers can change, add, or delete their information from either system at any time.

The respondents will be behavioral health professionals, researchers, parents, caregivers, and the general public.

SAMHSA estimates the burden of this information collection as follows:

Table 1—Estimated Annual Reporting Burden
| Number of respondents | Annual frequency per response | Total annual responses | Hours per response | Total hours
Web Site Registration | 41,200 | 1 | 41,200 | .033 (2 min.) | 1,360
Email Update Subscription | 24,000 | 1 | 24,000 | .017 (1 min.) | 480
Total | 65,200 |  | 65,200 |  | 1,840

Written comments and recommendations concerning the proposed information collection should be sent by September 3, 2010 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-5806.

Dated: July 27, 2010.
Elaine Parry,
Director, Office of Program Services.

[FR Doc. 2010-19118 Filed 8-3-10; 8:45 am]

BILLING CODE 4162-20-P